DEPARTMENT OF COMMERCE

National Oceanic and Atmospheric Administration

[RTID 0648-XC229]

Nominations to the American Fisheries Advisory Committee

AGENCY: National Marine Fisheries Service (NMFS), National Oceanic and Atmospheric Administration (NOAA), Department of Commerce.

ACTION: Notice; request for nominations.

SUMMARY: Nominations are being sought for appointment by the Secretary of Commerce (Secretary) to serve on the American Fisheries Advisory Committee (Committee). The Committee is responsible for making recommendations to the Secretary for financial assistance awards under the Saltonstall-Kennedy (S-K) Grant Competition under the Department of Commerce. The Committee will also make recommendations to the Secretary to assist in the development of the annual Notice of Funding Opportunities (NoFO) for submission to the S-K Grant Competition. This may include identifying the needs of the fishing communities (program priorities), establishing individual award funding limits, specifying the application review criteria and selection processes, and other sections of the NoFO as appropriate and allowable. Nominees should have demonstrable experience in one or more of the following areas of expertise, and in as many seafood species as possible: seafood harvesting or processing; recreational or commercial fishing; growing seafood; fisheries science; and/or food distribution, marketing, retail, or food service. Nominees must be able to fulfill the time commitments required for up to two annual meetings. It is anticipated that meetings will be in person, rotating between regions and possibly lasting up to four business days, subject to the time needs of each meeting. Individuals selected to initially serve on the Committee will serve staggered terms of two, three, and four years. Terms of all future Committee members will be for three years and may not exceed more than two consecutive terms if re-appointed.

DATES: Nominations must have an email date stamp on or before September 24, 2022.

ADDRESSES: Nominations should be submitted by email to: nmfs.afac.nominations@noaa.gov, or by mail to: Clifford Cosgrove, Saltonstall-Kennedy National Program Manager, NMFS Office of Management and Budget, 1315 East-West Highway, Rm #14456, Silver Spring, MD 20910.

FOR FURTHER INFORMATION CONTACT: Please visit https://www.fisheries.noaa.gov/national/funding-and-financial-services/saltonstall-kennedy-research-and-development-program, or contact Cliff Cosgrove, Saltonstall-Kennedy National Program Manager, NMFS Office of Management and Budget, by phone, at (301)427-8736, or email, at: nmfs.afac.nominations@noaa.gov.

SUPPLEMENTARY INFORMATION: The Committee was created from Public Law 117-121 signed on May 12, 2022. The Committee meets no more than twice annually and membership is comprised of 22 individuals appointed by the Secretary with the following geographic representation: Region 1 consisting of Alaska, Hawaii, the Commonwealth of the Northern Mariana Islands, and the Territories of Guam and American Samoa; Region 2 consisting of Maine, New Hampshire, Massachusetts, Rhode Island, and Connecticut; Region 3 consisting of Texas, Alabama, Louisiana, Mississippi, Florida, Arkansas, Puerto Rico, and the Territory of the Virgin Islands of the United States; Region 4 consisting of California, Washington, Oregon, and Idaho; Region 5 consisting of New Jersey, New York, Delaware, Maryland, Virginia, North Carolina, South Carolina, and Georgia; and Region 6 consisting of Michigan, Minnesota, Wisconsin, Illinois, Indiana, Ohio, and Pennsylvania. Membership for each region will be composed of highly qualified, diverse individuals with experience in one or more of the following areas of expertise, and in as many seafood species as possible: seafood harvesting or processing; recreational or commercial fishing; growing seafood; fisheries science; and/or food distribution, marketing, retail, or food service.

Four at-large members shall also be appointed by the Secretary as follows: one individual with experience in food distribution, marketing, retail, or food service; one individual with experience in the recreational fishing industry supply chain, such as fishers, manufacturers, retailers, and distributors; one individual with experience in the commercial fishing industry supply chain, such as fishers, manufacturers, retailers, and distributors; and one individual who is an employee of NMFS with expertise in fisheries research.

Committee membership is voluntary and, except for reimbursable travel and related expenses per federal travel regulations, service is without compensation.

Each nominee must submit a cover letter and a resume/curriculum vitae (CV) in PDF format. The cover letter shall include a brief statement as to their interest in serving on the Committee and their qualifications. The resume/CV shall detail the applicant's contact information (address, telephone number, email address) and specific qualifications/experience/expertise as referenced in Public Law 117-121. Any applicants selected for Committee membership shall be required to complete a financial disclosure/conflict of interest form. The first Committee meeting will take place within the first two weeks of December 2022.

Nominations shall be submitted by email to nmfs.afac.nominations@noaa.gov, and must be received by September 24, 2022 to be considered. The full text of Public Law 117-121 and other relevant documents can be viewed at the following link: https://www.fisheries.noaa.gov/national/funding-and-financial-services/saltonstall-kennedy-research-and-development-program

Dated: August 3, 2022.
Daniel A. Namur,
Financial Assistance Division Chief, National Marine Fisheries Service.

[FR Doc. 2022-17162 Filed 8-9-22; 8:45 am]

BILLING CODE 3510-22-P